DEPARTMENT OF ARCTIC RESEARCH COMMISSION

Arctic Research Commission

[Docket No. USARC 07-081]

Notice of Meeting

September 14, 2007.

Notice is hereby given that the U.S. Arctic Research Commission will hold its 84th meeting in Nome, AK on October 8-9, 2007. the Business Session, open to the public, will convene at 9 a.m. Monday, October 8, 2007 in Nome, AK. An Executive Session will follow adjournment of the Business Session.

The Agenda items include:

(1) Call to order and approval of the Agenda.

(2) Approval of the Minutes of the 83rd Meeting.

(3) Reports from Congressional Liaisons.

(4) Agency Reports.

The focus of the meeting will be reports and updates on programs and research projects affecting the Arctic.

Any person planning to attend this meeting who requires special accessibility features and/or auxiliary aids, such as sign language interpreters, must inform the Commission in advance of those needs.

Contact Person for More Information: John Farrell, Executive Director, US Arctic Research Commission 703-525-0111 or TDD 703-306-0090.

John Farrell,
Executive Director.

[FR Doc. 07-4830 Filed 9-28-07; 8:45 am]

BILLING CODE 7555-01-M